DEPARTMENT OF ENERGY

Federal Energy Regulatory Commission

[Project Nos. 2897-052, 2931-044, 2932-051, 2941-047, 2942-054, and 2984-123]

Sappi North America, Inc., Presumpscot Hydro LLC, Dichotomy Power Maine LLC; Notice of Amended Application for Transfer of License and Lease of Project Lands Accepted for Filing and Soliciting Comments, Motions To Intervene, and Protests

Take notice that the following hydroelectric application has been filed with the Commission and is available for public inspection:

a. Type of Application: Transfer of License and Lease of Project Lands.

b. Project Nos.: 2897-052, 2931-044, 2932-051, 2941-047, 2942-054, and 2984-123.

c. Date Filed: June 21, 2021.

d. Applicants: Sappi North America, Inc. (transferor), Presumpscot Hydro LLC (co-transferee), Dichotomy Power Maine LLC (co-transferee).

e. Name of Projects: Saccarappa, Gambo, Mallison Falls, Little Falls, Dundee, and Eel Weir.

f. Location: The Saccarappa, Gambo, Mallison Falls, Little Falls, Dundee and Eel Weir projects are located on the Presumpscot River, in the Towns of Gorham and South Windham and the Westbrook and Standish cities in Cumberland County, Maine.

g. Filed Pursuant to: Federal Power Act, 16 U.S.C. 791a-825r.

h. Applicant Contacts:

For Transferor: Ms. Briana O'Regan, Assistant General Counsel, Sappi North America, Inc., 179 John Roberts Road, South Portland, ME 04106, phone: (207) 854-7070, Email: briana.oregan@sappi.com.

For Transferor and Co-Transferee: Mr. Matthew D. Manahan, Counsel for Sappi and Presumpscot Hydro, Pierce Atwood LLP, 254 Commercial St., Portland, ME 04101, phone: (207) 791-1189, Email: mmanahan@pierceatwood.com.

For Co-Transferee: Mr. Ian Clark, CEO, Dichotomy Power LLC, 1 Pepsi Way, Suite 6n74, Katonah, NY 10536, phone: (914) 297-7645, Email: ianc@dichotomycapital.com.

i. FERC Contact: Mrs. Anumzziatta Purchiaroni, (202) 502-6191 or Anumzziatta.purchiaroni@ferc.gov.

j. Deadline for filing comments, motions to intervene, and protests is 30 days from the issuance of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2897-052, P-2931-044, P-2932-051, P-2941-047, P-2942-054, and P-2984-123. Comments emailed to Commission staff are not considered part of the Commission record.

The Commission's Rules of Practice and Procedure require all intervenors filing documents with the Commission to serve a copy of that document on each person on the official service list for the project. Further, if an intervenor files comments or documents with the Commission relating to the merits of an issue that may affect the responsibilities of a resource agency, they must also serve a copy of the document on that resource agency.

k. Description of Transfer and Lease of Project Lands Request: In the original application filed on October 20, 2020, the applicants requested that the Commission approve the transfer of the following projects from Sappi North America, Inc. (Sappi) to Presumpscot Hydro LLC (Presumpscot) as the sole transferee: Saccarappa Project No. 2897, Gambo Project No. 2931, Mallison Falls Project No. 2932, Little Falls Project No. 2941, Dundee Project No. 2942, and Eel Weir Project No. 2984-123. The Commission issued notice of the application on January 26, 2021. On June 21, 2021, the applicants submitted an amendment to the original application, to add Dichotomy Power Maine LLC (Dichotomy) as a co-transferee. Presumpscot remains a co-transferee. Because the amendment modifies the proposal in the original application, the Commission is issuing notice of the amended application.

l. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room due to the proclamation declaring a National Emergency concerning the Novel Coronavirus Disease (COVID-19), issued by the President on March 13, 2020. For assistance, contact FERC at FERCOnlineSupport@ferc.gov or call toll free, (866) 208-3676 or TTY, (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the application.

o. Filing and Service of Documents: Any filing must (1) bear in all capital letters the title “COMMENTS”, “PROTEST”, or “MOTION TO INTERVENE” as applicable; (2) set forth in the heading the name of the applicant and the project number(s) of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: September 10, 2021.
Kimberly D. Bose,
Secretary.

[FR Doc. 2021-20001 Filed 9-15-21; 8:45 am]

BILLING CODE 6717-01-P